DEPARTMENT OF COMMERCE

International Trade Administration

U.S. Department of Commerce Trade Finance Advisory Council Establishment

AGENCY: International Trade Administration, U.S. Department of Commerce.

ACTION: Notice of establishment of the U.S. Department of Commerce Trade Finance Advisory Council.

SUMMARY: The Secretary of Commerce (Secretary), having determined that it is in the public interest in connection with the performance of duties imposed on the Department of Commerce by law, and with the concurrence of the General Services Administration, announces establishment of the U.S. Department of Commerce Trade Finance Advisory Council. This advisory committee will advise the Secretary on the development of strategies and programs that would help expand access to trade finance for U.S. exporters. The establishment of this federal advisory committee is necessary to provide input to the Secretary regarding the challenges faced by U.S. exporters in accessing capital, innovative solutions that can address these challenges, and recommendations on strategies that can expand access to finance and educate U.S. exporters on available resources. This notice also requests nominations for membership.

DATES: Nominations for members must be received on or before 5 p.m. EDT Monday, August 22, 2016.

ADDRESSES: All nominations should be submitted to the Executive Secretary, Advisory Council on Trade Finance to: Ericka Ukrow, Office of Finance and Insurance Industries, U.S. Department of Commerce Trade Finance Advisory Council, Room 18002, 1401 Constitution Avenue NW., Washington, DC 20230, or via email at: Ericka.Ukrow@trade.gov.

FOR FURTHER INFORMATION CONTACT: Ericka Ukrow, Office of Finance and Insurance Industries, Room 18002, U.S. Department of Commerce, 1401 Constitution Avenue NW., Washington, DC 20230; telephone: (202) 482-0405, email: Ericka.Ukrow@trade.gov.

SUPPLEMENTARY INFORMATION:

I. Background and Authority

The U.S. Department of Commerce Trade Finance Advisory Council (TFAC) is established in accordance with the provisions of the Federal Advisory Committee Act, as amended, 5 U.S.C. App., to advise the Secretary on matters relating to private sector trade financing for U.S. exporters. The Department affirms that the creation of the TFAC is necessary and in the public interest.

The Department of Commerce, International Trade Administration, Office of Finance and Insurance Industries, is accepting nominations for membership on the TFAC. The TFAC functions solely as an advisory committee. The TFAC shall advise the Secretary in identifying effective ways to help expand access to finance for U.S. exporters, especially small- and medium-sized enterprises (SMEs), and their foreign buyers.

The TFAC shall provide a necessary forum to facilitate the discussion between a diverse group of stakeholders such as banks, non-bank financial institutions, other trade finance related organizations, and exporters to gain a better understanding regarding current challenges facing U.S. exporters in accessing finance.

The TFAC shall draw upon the experience of its members in order to obtain ideas and suggestions for innovative solutions to these challenges.

The TFAC shall develop recommendations on programs or activities that the Department of Commerce could incorporate as part of its export promotion and trade finance education efforts.

The TFAC shall report to the Secretary on its activities and recommendations. In creating its reports, the TFAC should: (1) Evaluate current credit conditions and specific financing challenges faced by U.S. exporters, especially SMEs, and their foreign buyers, (2) examine other noteworthy issues raised by stakeholders represented by the membership, (3) identify emerging financing sources that would address these gaps, and (4) recommend specific activities by which these recommendations could be incorporated and implemented.

II. Structure, Membership, and Operation

The TFAC shall consist of no more than twenty members appointed by the Secretary. Members may be drawn from:

• U.S. companies that are exporters of goods and services;

• U.S. commercial banks that provide trade finance products, cross-border payment services, or foreign exchange solutions;

• Non-bank U.S. financial institutions that provide trade finance products, cross-border payment services, or foreign exchange solutions;

• Associations that represent: (a) U.S. exporters and SMEs; and (b) U.S. commercial banks or non-bank financial institutions or other professionals that facilitate international trade transactions;

• U.S. companies or entities whose business includes trade-finance-related activities or services;

• U.S. scholars, academic institutions, or public policy organizations with expertise in global business, trade finance, and international banking related subjects; and

• Economic development organizations and other U.S. regional, state and local governmental and non-governmental organizations whose missions or activities include the analysis, provision, or facilitation of trade finance products/services.

Membership shall include a broad range of companies and organizations in terms of products and services, company size, and geographic location of both the source and destination of trade finance. Members will be selected based on their ability to carry out the objectives of the TFAC, in accordance with applicable Department of Commerce guidelines, in a manner that ensures that the TFAC is balanced in terms of points of view and demographics. Priority may be given to candidates who have executive-level (Chief Executive Officer, Executive Chairman, President, or comparable level of responsibility) experience.

Members, with the exception of those from academia and public policy organizations, serve in a representative capacity, representing their own views and interests and those of their particular sector, not as Special Government Employees. The members from academia and public policy organizations serve as experts and therefore are Special Government Employees (SGEs), pursuant to 18 U.S.C. 202, and will be required to comply with certain ethics laws and rules, including filing a Confidential Financial Disclosure form. Additionally, a member serving as an expert must not be a Federally Registered Lobbyist.

Prospective nominees should designate the capacity in which they are applying to serve and identify either their area of expertise or the U.S. industry sector they wish to represent. Members of the TFAC will not be compensated for their services or reimbursed for their travel expenses. Appointments to the TFAC shall be made without regard to political affiliation.

Each member shall be appointed for a term of two years and will serve at the pleasure of the Secretary. The Secretary may at his/her discretion reappoint any member to an additional term or terms, provided that the member proves to work effectively on the TFAC and his/her knowledge and advice are still needed.

The TFAC chair and vice chair or vice chairs shall be selected from the members of the TFAC by the Assistant Secretary for Industry & Analysis after consulting with the members. Their term of service will not exceed the duration of the current charter term and they may be reselected for additional periods should the charter be renewed and should they remain on the TFAC.

III. Compensation

Members will not be paid for their engagement in the performance of their duties as members of the Council. Members will not receive per diem and travel expenses.

IV. Nomination

The Department of Commerce will consider nominations of all qualified individuals to ensure that the TFAC includes representatives of the viewpoints and members with the areas of subject matter expertise noted above (see “Structure, Membership and Operation”). Individuals may nominate themselves or other individuals, and a company, institution, trade association, or organization may nominate a qualified representative for membership on the TFAC.

Nominations shall state that the nominee is willing to serve as a member of the TFAC. All nomination packages should include the following information for each nominee: (1) Name and title of the individual requesting consideration. (2) Nominations shall state that the nominee is willing to serve as a member of the TFAC. The potential candidate's personal resume and short biography (less than 300 words). (3) A brief statement describing how the potential candidate will contribute to the work of the TFAC based on his/her unique experience and perspective (not to exceed 100 words). (4) All relevant contact information, including mailing address, fax, email, phone number, and support staff information where relevant. (5) An affirmative statement that the potential candidate meets all eligibility criteria, including an affirmative statement that the potential candidate is not required to register as a foreign agent under the Foreign Agents Registration Act of 1938, as amended.

In addition, for a potential candidate to serve in a representative capacity: (a) A sponsor letter on the sponsoring entity's letterhead containing a brief statement of why the potential candidate should be considered for membership on the TFAC. This sponsor letter should also address the potential candidate's experience and leadership related to trade finance; (b) A brief description of the company, institution, trade association, or organization to be represented and its business activities and export market(s) served, if applicable; (c) Information regarding the ownership and control of the sponsoring entity, including the stock holdings as appropriate; and (d) The sponsoring entity's size (number of employees and annual sales), place of incorporation, product or service line, major markets in which the entity operates, and the entity's export or import experience.

In addition, for a potential candidate to serve as an expert: A statement that the potential candidate is not a Federally registered lobbyist and that the potential candidate understands that, if appointed, the potential candidate will not be allowed to continue to serve as a Committee member if the potential candidate becomes a Federally registered lobbyist.

Dated: July 19, 2016.
Paul Thanos,
Director, Office of Finance and Insurance Industries.

[FR Doc. 2016-17436 Filed 7-22-16; 8:45 am]

BILLING CODE 3510-DR-P